DEPARTMENT OF HOMELAND SECURITY

Coast Guard

33 CFR Part 117

[CGD05-07-056]

RIN 1625-AA-09

Drawbridge Operation Regulations; Intracoastal Waterway (ICW); Manasquan River, Brielle, NJ

AGENCY: Coast Guard, DHS.

ACTION: Notice of temporary deviation from regulations.

SUMMARY: The Commander, Fifth Coast Guard District, has approved a temporary deviation from the regulations governing the operation of the Route 35 Bridge, at ICW mile 1.1, across Manasquan River at Brielle, New Jersey. This deviation allows the drawbridge to remain closed-to-navigation from 9:30 p.m. to 11:59 p.m. on July 4, 2007, to facilitate traffic control during the annual fireworks display.

DATES: This deviation is effective from 9:30 p.m. to 11:59 p.m. on July 4, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Waverly W. Gregory, Jr., Bridge Administrator, Fifth Coast Guard District, at (757) 398-6222.

SUPPLEMENTARY INFORMATION: The Route 35 Bridge, a lift drawbridge, has a vertical clearance in the closed position to vessels of 30 feet, above mean high water.

The Point Pleasant Beach Police Department, on behalf of the bridge owner, the New Jersey Department of Transportation, has requested a temporary deviation from the current operating regulation set out in 33 CFR 117.733(b) to close the drawbridge to navigation for the sole purpose of motor vehicle traffic control before, during and after the fireworks display that is scheduled for Wednesday, July 4, 2007.

To facilitate traffic control during the 4th of July fireworks display, the Route 35 Bridge will be maintained in the closed-to-navigation position from 9:30 p.m. to 11:59 p.m. on July 4, 2007.

This deviation from the operating regulations is authorized under 33 CFR 117.35.

Dated: May 18, 2007.
Waverly W. Gregory, Jr.
Chief, Bridge Administration Branch, Fifth Coast Guard District.

[FR Doc. E7-10276 Filed 5-29-07; 8:45 am]

BILLING CODE 4910-15-P